NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 17, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant; Permit Application No. 2007-023; Catherine Herrick, CBS News, 9th Floor, 555 West 57th Street, New York, NY 10019.

Activity for Which Permit Is Requested

Enter an Antarctic Specially Protected Area (ASPA). The applicant proposes to enter the Admiralty Bay, King George Island Antarctic Specially Protected Area (ASPA #128) to film and conduct interviews with scientists studying penguins. The applicant plans to produce a story for the CBS New magazine 60 Minutes about the various factors in Antarctica that are contributing to global warming and the effects on the wildlife. Access to the site will be via zodiacs.

Location: Admiralty Bay, King George Island (ASPA #128).

Dates: February 7, 2007 to February 14, 2007.

Nadene G. Kennedy,
Permit Officer, Office of Polar Programs.

[FR Doc. E6-21476 Filed 12-18-06; 8:45 am]

BILLING CODE 7555-01-P